DEPARTMENT OF HEALTH AND HUMAN SERVICES

Centers for Disease Control and Prevention

[60Day-17-17HO; Docket No. CDC-2016-0118]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Test Predictability of Falls Screening Tools.” CDC will use the information collected to evaluate current screening tools and potentially design a new screening tool for health care practitioners to identify community-dwelling adults 65 and older at risk for falls.

DATES: Written comments must be received on or before February 27, 2017.

ADDRESSES: You may submit comments, identified by Docket No. CDC-2016-0118 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Test Predictability of Falls Screening Tools—New—National Center for Injury Prevention and Control (NCIPC), Centers for Disease Control and Prevention (CDC).

Background and Brief Description

NCIPC seeks to request a two-year OMB approval for the “Test Predictability of Falls Screening Tools” information collection project. Falls are the leading cause of fatal and nonfatal injuries among older adults in the U.S. and represent a significant burden to the healthcare system. Research demonstrates that clinical interventions can reduce fall risk, and the American and British Geriatrics Societies (AGS/BGS) have developed a clinical practice guideline to manage fall risk among their older adult patients. Based on these guidelines, the CDC developed a falls prevention initiative called STEADI (Stopping Elderly Accidents, Deaths, and Injuries). STEADI includes a suite of materials (available at www.cdc.gov/STEADI) that help health care practitioners implement these clinical guidelines.

The first step in clinical falls prevention is for health care practitioners to administer a fall risk screening. The screening identifies whether adults 65 and older are at “increased risk” for a fall. The initial screening step is critical because it identifies who will receive the assessments and follow-up care, which has the potential to place a large burden on health care practitioners and the healthcare system. While medical organizations such as the American Geriatrics Society recommend that adults 65 and older be screened annually for fall risk, and although there are a number of tools used to screen older adults for fall risk, there is currently no standard for fall risk screening across care settings.

The CDC proposes to conduct a new data collection in order to develop a set of brief screening questions that are clinically-useful for quickly sorting patients into risk levels for falls. The goals of this study are to: (1) Test the ability of existing falls screening tools to predict falls in the subsequent year; (2) design an effective and parsimonious screening tool for health care practitioners to identify community-dwelling adults 65 and older at risk for falls; and (3) assess how responses to questions change over time and how well questions predict falls for specific groups (e.g., gender, race, disability status).

The intended use of the resulting data is to evaluate current screening tools and potentially design a new screening tool for health care practitioners to identify community-dwelling adults 65 and older at risk for falls. The analysis will consider individual questions and groupings of questions that predict fall risk for multiple subgroups (e.g., gender, race, disability status) of adults 65 and older.

The only cost to respondents will be time spent responding to the survey/screener.

Estimated Annualized Burden Hours
Respondents | Form name | Number of respondents | Number of responses per respondent | Average burden per response (Hours) | Total burden (hours)
Contacted Panelists | Initial Call | 1,463 | 1 | 2/60 | 49
Participating Panelists | Baseline Survey/Final Survey (month 12) Web Mode | 380 | 1 | 20/60 | 127
| Baseline Survey/Final Survey (month 12) Phone Mode | 570 | 1 | 30/60 | 285
| Monthly Update Survey (months 1-11) Web Mode | 380 | 11 | 10/60 | 697
| Monthly Update Survey (months 1-11) Phone Mode | 570 | 11 | 15/60 | 1,568
| Falls Diary | 276 | 1 | 5/60 | 23
Proxy Respondents | Proxy Survey Web Mode | 38 | 1 | 3/60 | 2
| Proxy Survey Phone Mode | 57 | 1 | 5/60 | 5
Total Hours |  |  |  |  | 2,756

Leroy A. Richardson,
Chief, Information Collection Review Office, Office of Scientific Integrity, Office of the Associate Director for Science, Office of the Director, Centers for Disease Control and Prevention.

[FR Doc. 2016-31604 Filed 12-28-16; 8:45 am]

BILLING CODE 4163-18-P